DEPARTMENT OF COMMERCE

National Oceanic and Atmospheric Administration

Agency Information Collection Activities; Submission to the Office of Management and Budget (OMB) for Review and Approval; Comment Request; Evaluation of Public Visitors' Experience at the National Marine Sanctuaries Visitor Centers and Exhibits

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 19 April 2021 (86 FR 20367) during a 60-day comment period. This notice allows for an additional 30 days for public comments.

Agency: National Oceanic and Atmospheric Administration (NOAA), Commerce.

Title: Evaluation of Public Visitors' Experience at the National Marine Sanctuaries Visitor Centers and Exhibits.

OMB Control Number: 0648-0582.

Form Number(s): None.

Type of Request: Revision and extension of a current information collection.

Number of Respondents: 8,265.

Average Hours per Response: 8 minutes.

Total Annual Burden Hours: 1,102.

Needs and Uses: The Office of National Marine Sanctuaries (ONMS) is requesting revision and extension of a currently approved information collection. This information collection is revised to include the collection instruments approved under OMB Control Number 0648-0777, after which that control number will be discontinued. The title of this collection is being changed to encompass both collections.

The evaluation of visitor demographics, experiences, and opinions about visitor centers and exhibits is needed to support the conservation, education, and management goals of ONMS to strengthen and improve the stewardship, sustainable use, and protection of natural, cultural, and historical resources. Under the jurisdiction of ONMS and to satisfy legal mandates, the National Oceanic and Atmospheric Administration (NOAA) is authorized to conduct evaluations, such as this information collection, under the American Innovation and Competitiveness Act (section 314(c)) to ensure education programs have measurable objectives and milestones as well as clear, documented metrics for evaluating its programs.

For example, the Mokupāpapa Discovery Center (Center) is an outreach arm of Papahānaumokuākea Marine National Monument that reaches more than 75,000 people each year in Hilo, Hawai`i. The Center was created almost two decades ago to help raise support for the creation of a national marine sanctuary in the Northwestern Hawaiian Islands. Since that time, the area has been proclaimed a marine national monument and the main messages we are trying to share with the public have changed to better reflect the new monument status, UNESCO World Heritage status, and the joint management by the three co-trustees of the monument.

ONMS recently updated its Strategic Plan and has identified a lack of information on the effectiveness of its education, outreach, and communications initiatives as they relate to sanctuary/monument visitor centers, exhibits (permanent or traveling/temporary), kiosks, and educational programming conducted by its visitor centers and partner facilities.

We therefore are seeking to determine if people visiting ONMS' visitor centers and exhibits are receiving our new messages by conducting an optional exit survey. ONMS is requesting to conduct a survey to evaluate patron acuity to determine successful concept attainment. Conducting thorough evaluations will aid in vital decisions regarding exhibit renovation, new exhibits, interpretation programs, and educational content.

Affected Public: Individuals or households.

Frequency: One time every three years.

Respondent's Obligation: Voluntary.

Legal Authority: National Marine Sanctuary Act.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0582.

Sheleen Dumas,
Department PRA Clearance Officer, Office of the Chief Information Officer, Commerce Department.

[FR Doc. 2021-19809 Filed 9-13-21; 8:45 am]

BILLING CODE 3510-NK-P